DEPARTMENT OF TRANSPORTATION

National Highway Traffic Safety Administration

49 CFR Part 595

[Docket No. NHTSA-04-17536]

Retrofit On-Off Switches for Air Bags; Vehicle Modifications To Accommodate People With Disabilities

AGENCY: National Highway Traffic Safety Administration (NHTSA), Department of Transportation (DOT).

ACTION: Correcting amendment.

SUMMARY: This document corrects the regulation governing vehicle modifications made to accommodate people with disabilities.

DATES: The effective date of this final rule is April 20, 2004. Petitions for reconsideration must be submitted so they are received by the agency June 4, 2004.

ADDRESSES: Petitions for reconsideration must be identified by the Docket Number in the title to this document and submitted to: Administrator, National Highway Traffic Safety Administration, 400 Seventh St., SW., Washington, DC 20590.

FOR FURTHER INFORMATION CONTACT: For technical and other non-legal issues, you may call Ms. Gayle Dalrymple of the NHTSA Office of Crash Avoidance Standards at (202) 366-5559.

For legal issues, you may call Mr. Chris Calamita, Office of Chief Counsel (Telephone: (202) 366-2992) (Fax: (202) 366-3820).

You may send mail to both of these officials at the National Highway Traffic Safety Administration, 400 Seventh Street, SW., Washington, DC 20590.

SUPPLEMENTARY INFORMATION:

Background

The regulation that is subject to this correction is 49 CFR Part 595 subpart C, Vehicle Modifications to Accommodate People with Disabilities. On February 27, 2001, NHTSA issued a final rule establishing a limited exemption from a statutory provision that prohibits specified types of commercial entities from either removing safety equipment or features installed on motor vehicles pursuant to the Federal motor vehicle safety standards or altering the equipment or features so as to adversely affect their performance (66 FR 12638). The exemption allows repair businesses to modify certain types of federally-required safety equipment and features when passenger motor vehicles are modified for use by persons with disabilities.

Need for Correction

As published, the February 2001 final rule contained an error that needs correction. Included in the list of Federal standards that qualify for this limited exemption is Federal Motor Vehicle Safety Standard (FMVSS) No. 202, Head restraints. However, § 595.7, Requirements for vehicle modifications to accommodate people with disabilities, erroneously cites S3(b)(1) and S3(b)(2) of FMVSS No. 202, which do not exist. This correction amends § 595.7(c)(9) to cite S4.3(b)(1) and S4.3(b)(2) of FMVSS No. 202.

Correction of Publication

List of Subjects in 49 CFR Part 595

Imports, Motor vehicle safety, Reporting and recordkeeping requirements.

In consideration of the foregoing, NHTSA is amending 49 CFR part 595 as follows:

PART 595—[AMENDED]

1. The authority citation for part 595 continues to read as follows:

Authority: 49 U.S.C. 322, 30111, 30115, 30117, 30122, and 30166; delegation of authority at 49 CFR 1.50.

2. In § 595.7, paragraph (c)(9) is revised to read as follows:

§ 595.7 Requirements for vehicle modifications to accommodate people with disabilities.

* * * * *

(c) * * *

(9) S4.3(b)(1) and (2) of 49 CFR 571.202, in any case in which the driver's head restraint must be modified to accommodate a driver with a disability.

* * * * *

*

Issued on: April 9, 2004.
Roger A. Saul,
Director, Office of Crashworthiness Standards.

[FR Doc. 04-8932 Filed 4-19-04; 8:45 am]

BILLING CODE 4910-59-P